DEPARTMENT OF ENERGY

Federal Energy Regulatory Commission

[Docket No. ER01-1099-006, et al.]

Cleco Power LLC, et al.; Electric Rate and Corporate Regulation Filings

September 6, 2001.

Take notice that the following filings have been made with the Commission:

1. Cleco Power LLC

[Docket No. ER01-1099-006]

Take notice that on August 31, 2001, Cleco Power LLC (Cleco Power), tendered for filing a second substitute original Rate Schedule 12 and a substitute original Rate Schedule 13. On June 23, 2001, Cleco Utility Group Inc.’s Rate Schedules 15 and 16 were canceled and refiled as Cleco Power's Rate Schedules 12 and 13, respectively. Cleco Power filed a second substitute original Rate Schedule 12 and a substitute original Rate Schedule 13 to include the whereas clauses that were in Cleco Utility Group Inc.’s Rate Schedules 15 and 16 but were omitted from Cleco Power's original Rate Schedules 12 and 13.

Comment date: September 21, 2001, in accordance with Standard Paragraph E at the end of this notice.

2. Wisconsin Electric Power Company

[Docket No. ER01-2648-001]

Take notice that on August 31, 2001, Wisconsin Electric Power Company (Wisconsin Electric), tendered for filing a compliance filing as requested in docket ER01-2648-000 to address Order 614 First Revised Service Agreement No. 12.

Copies of the filing have been served on Excelon Generation Company, LLC, the Michigan Public Service Commission, and the Public Service Commission of Wisconsin.

Comment date: September 21, 2001, in accordance with Standard Paragraph E at the end of this notice.

3. Southern Company Services, Inc.

[Docket No. ER01-2863-001]

Take notice that on August 31, 2001, Southern Company Services, Inc. (SCS), on behalf of Alabama Power Company, Georgia Power Company, Gulf Power Company, Mississippi Power Company, and Savannah Electric and Power Company (Southern Companies), tendered for filing certain revised sheets in connection with a Notice of Cancellation of rate schedules filed on August 20, 2001.

Comment date: September 21, 2001, in accordance with Standard Paragraph E at the end of this notice.

4. New England Power Pool

[Docket No. ER01-2983-000]

Take notice that on August 31, 2001, the New England Power Pool (NEPOOL) Participants Committee filed for acceptance materials (1) to permit NEPOOL to expand its membership to include Poquonock River Funding, L.L.C. (PRF); and (2) to terminate the membership of DukeSolutions, Inc. The Participants Committee requests an effective date of November 1, 2001 for commencement of participation in NEPOOL by PRF and September 1, 2001 for the termination of DukeSolutions, Inc.

The Participants Committee states that copies of these materials were sent to the New England state governors and regulatory commissions and the Participants in NEPOOL.

Comment date: September 21, 2001, in accordance with Standard Paragraph E at the end of this notice.

5. Cinergy Services, Inc.

[Docket No. ER01-2984-000]

Take notice that on August 31, 2001, Cinergy Services, Inc. tendered for filing an unexecuted Interconnection Agreement by and between Cinergy Services, Inc. (Cinergy) and Duke Energy Vigo, LLC (Duke Energy Vigo), and an unexecuted Facilities Construction Agreement by and between Cinergy and Duke Energy Vigo.

Cinergy requests an effective date of August 31, 2001 for both the unexecuted Interconnection Agreement and the unexecuted Facilities Construction Agreement.

Cinergy states that it has served a copy of its filing upon the Indiana Utility Regulatory Commission and Duke Energy Vigo.

Comment date: September 21, 2001, in accordance with Standard Paragraph E at the end of this notice.

6. Commonwealth Edison Company

[Docket No. ER01-2985-000]

Take notice that on August 31, 2001, Commonwealth Edison (ComEd) filed in unexecuted form an interconnection agreement between ComEd and Zion Energy, LLC.

ComEd has requested an effective date of September 1, 2001 for this agreement.

Comment date: September 21, 2001, in accordance with Standard Paragraph E at the end of this notice.

7. Oklahoma Gas and Electric Company

[Docket No. ER01-2987-000]

Take notice that on August 31, 2001, Oklahoma Gas and Electric Company (OGE) submitted for filing a revised Interconnection Agreement between OGE and Redbud Energy LP. (Redbud). OGE requests an effective date for the revised Interconnection Agreement of July 30, 2001, and, accordingly, seeks waiver of the Commission's notice requirements.

OGE states that a copy of the filing was served on Redbud, the Oklahoma Corporation Commission and the Public Utility Commission of Texas.

Comment date: September 21, 2001, in accordance with Standard Paragraph E at the end of this notice.

8. Virginia Electric and Power Company

[Docket No. ER01-2989-000]

Take notice that on August 31, 2001, Virginia Electric and Power Company (Dominion Virginia Power) tendered for filing with the Federal Energy Regulatory Commission (Commission), an executed Generator Interconnection and Operating Agreement (Interconnection Agreement) with Industrial Power Generating Corporation (Ingenco). The Interconnection Agreement sets forth the terms and conditions under which Dominion Virginia Power will provide interconnection service for Ingenco's generating facility.

Dominion Virginia Power respectfully requests that the Commission waive its notice of filing requirements and requests an effective date of August 24, 2001 for the Interconnection Agreement.

Copies of the filing were served upon Industrial Power Generating Corporation and the Virginia State Corporation Commission.

Comment date: September 21, 2001, in accordance with Standard Paragraph E at the end of this notice.

9. Ameren Services Company

[Docket No. ER01-2990-000]

Take notice that on August 31, 2001, Ameren Services Company (ASC) tendered for filing a Transmission System Interconnection Agreement and Parallel Operating Agreement between ASC and Kinder Morgan Missouri, LLC. ASC asserts that the purpose of the Agreement is to permit ASC to provide transmission service to Kinder Morgan Missouri, LLC pursuant to Ameren's Open Access Transmission Tariff.

Comment date: September 21, 2001, in accordance with Standard Paragraph E at the end of this notice.

10. Wisconsin Public Service Corporation

[Docket No. ER01-2991-000]

Take notice that on August 31, 2001, Wisconsin Public Service Corporation (WPSC), tendered for filing revisions to its W-2A Tariff, “Partial Requirements Service to Interconnected Utility Customers” (the Tariff). The purpose of this filing is to terminate the option to provide bundled service under the Tariff. WPSC will continue to offer unbundled partial requirements service under the Tariff. WPSC requests that the Commission make the Tariff revisions effective on September 1, 2001.

Copies of the filing were served upon the WPSC's customers under the Tariff, the Public Service Commission of Wisconsin and the Michigan Public Service Commission.

Comment date: September 21, 2001, in accordance with Standard Paragraph E at the end of this notice.

11. Commonwealth Edison Company; Commonwealth Edison Company of Indiana

[Docket No. ER01-2992-000]

Take notice that on August 31, 2001, Commonwealth Edison Company and Commonwealth Edison Company of Indiana, Inc. (collectively, ComEd) tendered for filing its rates which set forth ComEd's costs of providing transmission and scheduling services to the Alliance Regional Transmission Organization (Alliance RTO). ComEd requests an effective date of the later of December 15, 2001, the date the Alliance RTO intends to commence operations, or the actual date on which the Alliance RTO commences operations.

Copies of the filing were served upon ComEd's jurisdictional customers, Alliance RTO Companies, and upon the affected state commissions.

12. Virginia Electric and Power Company

[Docket No. ER01-2993-000]

Take notice that on August 31, 2001, Virginia Electric and Power Company, doing business as Dominion Virginia Power (Dominion Virginia Power or the Company), tendered for filing its proposed rates for transmission service and certain ancillary services within the Dominion Virginia Power pricing zone of the Alliance Regional Transmission Organization (Alliance RTO). Dominion Virginia power requests that these rates take effect on the date on which the Alliance RTO Open Access Transmission Tariff (OATT) takes effect, which is expected to be December 15, 2001.

Copies of the filing were served upon the public utility's jurisdictional customers, all wholesale requirements customers of the Company and the Virginia State Corporation Commission and the North Carolina Utilities Commission; and a list of recipients of this transmittal letter, which includes all customers who have executed service agreements under the Company's OATT.

Comment date: September 21, 2001, in accordance with Standard Paragraph E at the end of this notice.

13. Arizona Public Service Company; El Paso Electric Company; Public Service Company of New Mexico; Southern California Edison Company

[Docket No. ER01-2994-000]

Take notice that on August 31, 2001, Arizona Public Service Company, El Paso Electric Company, Public Service Company of New Mexico, and Southern California Edison Company (collectively, the ANPP Switchyard Jurisdictional Participants), each tendered for filing with the Federal Energy Regulatory Commission (Commission) an ANPP Hassayampa Switchyard Interconnection Agreement for each of Duke Energy Arlington Valley, LLC, Pinnacle West Energy Corporation, Mesquite Power, LLC, Harquahala Generating Company, LLC, and Gila Bend Power Partners, LLC.

Comment date: September 21, 2001, in accordance with Standard Paragraph E at the end of this notice.

14. American Electric Power Corporation On behalf of: Appalachian Power Company; Columbus Southern Power Company; Indiana Michigan Power Company; Kentucky Power Company; Kingsport Power Company; Ohio Power Company; Wheeling Power Company

[Docket No. ER01-2995-000]

Take notice that on August 31, 2001, American Electric Power Service Corporation, on behalf of Appalachian Power Company, Columbus Southern Power Company, Indiana Michigan Power Company, Kentucky Power Company, Kingsport Power Company, Ohio Power Company, and Wheeling Power Company (collectively AEP) filed with the Federal Energy Regulatory Commission (Commission) proposed changes for electric transmission rates.

AEPSC requests an effective date of December 15, 2001 or the Transmission Service Date of the Alliance RTO, whichever is later.

Copies of the transmittal letter to AEP's filing have been served upon AEP's transmission customers and copies of the complete filing have been served on the public service commissions of Indiana, Kentucky, Michigan, Ohio, Tennessee, Virginia and West Virginia.

Comment date: September 21, 2001, in accordance with Standard Paragraph E at the end of this notice.

15. Wisconsin Electric Power Company

[Docket No. ER01-2996-000]

Take notice that on August 31, 2001, Wisconsin Electric Power Company (Wisconsin Electric) tendered for filing with the Federal Energy Regulatory Commission (Commission or FERC), a fully executed Second Revised Power Sale Agreement, designated as Second Revised Rate Schedule FERC No. 90, between Wisconsin Electric and Wisconsin Public Power Inc. The changes to the Revised Power Sales Agreement include: increasing the future power supply commitments under the agreement, setting the charged rates for a five-year period, establishing a rate structure for a period following the five-year period and extending the term of the agreement.

Copies of the filing have been sent to Wisconsin Public Power Inc., the Public Service Commission of Wisconsin and the Michigan Public Service Commission.

16. The Dayton Power and Light Company

[Docket No. ER01-2997-000]

Take notice that on August 31, 2001, The Dayton Power and Light Company (Dayton) submitted a filing with the Federal Energy Regulatory Commission (Commission or FERC), in support of new rates for jurisdictional transmission and ancillary services. Dayton states that the filing is made for the purposes of implementing in relevant part the Commission's orders on the Alliance Regional Transmission Organization (ARTO) and effecting the transition from the provision of services by Dayton using its own facilities under its Open Access Transmission Tariff (Tariff) (designated by the Commission as Dayton's FERC Electric Tariff, Original Volume No. 5) to the provision of new services on a regional basis by the ARTO. Dayton states that the filing provides the Dayton-specific cost of service and other data that support in relevant part the rates for service under the ARTO tariff being filed concurrently with Dayton's filing.Dayton states that a copy of this filing has been served on all customers under its current Tariff and the Public Utilities Commission of Ohio.

Comment date: September 21, 2001, in accordance with Standard Paragraph E at the end of this notice.

17. Illinois Power Company

[Docket No. ER01-2999-000]

Take notice that on August 31, 2001, Illinois Power Company (Illinois Power) tendered for filing with the Federal Energy Regulatory Commission (Commission), proposed rate changes for wholesale electric transmission rates. The proposed changes seek to recover a total of $38.3 million in revenue in 2001, a 54.8 percent increase in revenues from jurisdictional sales and service based on the 12-month period ending December 31, 2000, as compared to current rates under Illinois Power's open access transmission tariff (OATT).

In order to meet the Alliance Regional Transmission Organization's (Alliance RTO) proposed operational date of on or about December 15, 2001, the transmission owners participating in the Alliance RTO (Alliance Companies), including Illinois Power, are submitting contemporaneously with this filing, a Section 205 filing to establish the transmission rates for the Alliance RTO. In that filing, the Alliance Companies are submitting the rates to be charged under the approved non-pancaked rate structure that provides for zonal rates for loads in the zone, and a single regional through and out rate.

Copies of the filing were served upon all affected customers under Illinois Power's OATT and upon the Illinois Commerce Commission.

Comment date: September 21, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22868 Filed 9-11-01; 8:45 am]

BILLING CODE 6717-01-P